DEPARTMENT OF TRANSPORTATION

Coast Guard

[USCG-1999-6581]

Information Collection Under Review by the Office of Management and Budget (OMB): 2115-0042 and 2115-0010

AGENCY: Coast Guard, DOT.

ACTION: Request for comments.

SUMMARY: In compliance with the Paperwork Reduction Act of 1995, this request for comments announces that the Coast Guard has forwarded the two Information Collection Reports (ICRs) abstracted below to OMB for review and comment. Our ICRs describe the information that we seek to collect from the public. Review and comment by OMB ensure that we impose only paperwork burdens commensurate with our performance of duties.

DATES: Please submit comments on or before March 27, 2000.

ADDRESSES: Please send comments to both (1) the Docket Management System (DMS), U.S. Department of Transportation (DOT), room PL-401, 400 Seventh Street S.W., Washington, DC 20590-0001, and (2) the Office of Information and Regulatory Affairs (OIRA), Office of Management and Budget (OMB), 725 17th Street N.W., Washington, DC 20503, to the attention of the Desk Officer for the USCG.

Copies of the complete ICRs are available for inspection and copying in public docket USCG-1999-6581 of the Docket Management Facility between 10 a.m. and 5 p.m., Monday through Friday, except Federal holidays; for inspection and printing on the internet at http://dms.dot.gov; and for inspection from the Commandant (G-SII-2), U.S. Coast Guard, room 6106, 2100 Second Street S.W., Washington, DC, between 10 a.m. and 4 p.m., Monday through Friday, except Federal holidays.

FOR FURTHER INFORMATION CONTACT: Barbara Davis, Office of Information Management, 202-267-2326, for questions on this document; Dorothy Walker, Chief, Documentary Services Division, U.S. Department of Transportation, 202-366-9330, for questions on the docket.

SUPPLEMENTARY INFORMATION

Regulatory History

This request constitutes the 30-day notice required by OMB. The Coast Guard has already published [64 FR 68408 (December 7, 1999)] the 60-day notice required by OMB. That request elicited no comments.

Request for Comments

The Coast Guard invites comments on the proposed collections of information to determine whether the collections are necessary for the proper performance of the functions of the Department. In particular, the Coast Guard would appreciate comments addressing: (1) the practical utility of the collections; (2) the accuracy of the Department's estimated burden of the collections; (3) ways to enhance the quality, utility, and clarity of the information that is the subject of the collections; and (4) ways to minimize the burden of collections on respondents, including the use of automated collection techniques or other forms of information technology.

Comments, to DMS or OIRA, must contain the OMB Control Numbers of all ICRs addressed. Comments to DMS must contain the docket number of this request, USCG 1999-6581. Comments to OIRA are best assured of having their full effect if OIRA receives them 30 or fewer days after the publication of this request.

Information Collection Requests

1. Title: Certificate of Discharge to Merchant Mariners.

OMB Control Number: 2115-0042.

Type of Request: Extension of currently approved collection.

Affected Public: Masters or mates of shipping companies and merchant mariners.

Form(s): N/A.

Abstract: The collection of information requires a master or mate of a shipping company to submit information on merchant mariners to the U.S. Coast Guard that: (1) establishes their sea service time; (2) sets forth their qualifications for original credentials, or for upgrading existing credentials; and (3) sets forth their qualifications for retirement or insurance benefits.

Annual Estimated Burden Hours: The estimated burden is 4,500 hours annually.

2. Title: Recreational Boating Accident Report.

OMB Control Number: 2115-0010.

Type of Request: Extension of a currently approved collection.

Affected Public: Operators of recreational boats.

Forms: N/A.

Abstract: The information collected identifies possible manufacturers' defects in boats or equipment, helps develop boat manufacturing standards and safe-boating-education programs, and furnishes accident statistics.

Annual Estimated Burden Hours: The estimated burden is 4,232 hours annually.

Dated: February 17, 2000.
Daniel F. Sheehan,
Director of Information and Technology.

[FR Doc. 00-4492 Filed 2-24-00; 8:45 am]

BILLING CODE 4910-15-U